DEPARTMENT OF ENERGY

Federal Energy Regulatory Commission

[Project No. 14345-000]

Rock River Beach, Inc.; Notice of Application Tendered for Filing With the Commission and Soliciting Additional Study Requests

Take notice that the following hydroelectric application has been filed with the Commission and is available for public inspection.

a. Type of Application: Exemption from Licensing.

b. Project No.: 14345-000.

c. Filing Date: January 5, 2012.

d. Applicant: Rock River Beach, Inc.

e. Name of Project: Rock River Beach Hydroelectric Project.

f. Location: On the Rock River, in the Township of Onota, Alger County, Michigan. The proposed project would not occupy any federal lands.

g. Filed Pursuant to: Public Utility Regulatory Policies Act of 1978, 16 U.S.C. 2705, 2708.

h. Applicant Contact: Mary C. Edgar, Rock River Beach, Inc., 2617 Rockwood Drive, East Lansing, MI 48823; edgarjh@aol.com.

i. FERC Contact: Aaron Liberty at (202) 502-6862; or email at Aaron.Liberty@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of the Commission's regulations, 18 CFR 4.32(b)(7), if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 5, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. Project description: The project would include the following existing facilities: (1) A 33.6-foot-long, 5.5-foot-high concrete gravity dam with a crest elevation of 607.5 feet National Geodetic Vertical Datum; (2) a 3-foot-high by 6-foot-wide vertical steel slide sluice gate; (3) a 5-acre impoundment; (4) a 30-foot-wide by 50-foot-long power canal that feeds water to a water wheel and turbine; (5) a 100-foot-long by 50-foot-wide bypass reach that directs overflow water to the dam; (6) a powerhouse containing a 3-kilowatt (kW) and a 5-kW generating unit; and (7) a 2,640-foot-long transmission line. The project would generate an annual average of approximately 9,000 to 18,000 kW-hours.

The proposed project is currently unlicensed and was found to be jurisdictional because it is located on a Commerce Clause water and affects the interests of interstate commerce. See, 103 FERC ¶ 62,180 (2003).

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Michigan State Historic Preservation Officer (SHPO), as required by 106, National Historic Preservation Act, and the regulations of the Advisory Council on Historic Preservation, 36 CFR 800.4.

q. Procedural schedule: The application will be processed according to the following preliminary Hydro Licensing Schedule. Revisions to the schedule will be made as appropriate.

Issue Acceptance Letter or Deficiency Letter | April 2012.
Issue Notice of Ready for Environmental Analysis | June 2012.
Comments, Recommendations, and Terms and Conditions | August 2012.
Commission issues EA | November 2012.

Dated: January 13, 2012.
Kimberly D. Bose,
Secretary.

[FR Doc. 2012-1069 Filed 1-19-12; 8:45 am]

BILLING CODE 6717-01-P